DEPARTMENT OF LABOR

Employment and Training Administration

Workforce Innovation and Opportunity Act; Lower Living Standard Income Level (LLSIL) Correction

AGENCY: Employment and Training Administration, Labor.

ACTION: Notice; correction.

SUMMARY: The Employment and Training Administration (ETA) published in the Federal Register on Friday, March 27, 2015, an announcement of the 2015 Lower Living Income Level (LLSIL) (Vol. 80, No. 59/Friday, March 27, 2015, PP 16452, 16454, 16455 see http://www.gpo.gov/fdsys/pkg/FR-2015-03-27/pdf/2015-07031.pdf. The announcement had the incorrect income levels for the South Metro area and the West Metro and non-metro areas. Below are the corrections to those areas. This is retroactive to March 27, 2015.

Corrections to Table 1 (A Family of Four)
Region | 2015 Adjusted LLSIL | 70 Percent LLSIL
South:
Metro | 35,625 | 24,937
West:
Metro | 40,362 | 28,253
Non-Metro | 39,552 | 27,687

Corrections to the 2015 Table 4 70% of LLSIL
Family size | 1 | 2 | 3 | 4 | 5 | 6
South: Metro | 8,982 | 14,717 | 20,199 | 24,937 | 29,432 | 34,422
West: Metro | 10,172 | 16,669 | 22,887 | 28,253 | 33,340 | 38,995
West: Non-Metro | 9,969 | 16,338 | 22,431 | 27,687 | 32,676 | 38,216

Corrections to the 2015 Table 5 100% of LLSIL
Family size | 1 | 2 | 3 | 4 | 5 | 6
South: Metro | 12,831 | 21,024 | 28,856 | 35,625 | 42,046 | 49,175
West: Metro | 14,531 | 23,814 | 32,696 | 40,362 | 47,628 | 55,707
West: Non-Metro | 14,241 | 23,339 | 32,044 | 39,552 | 46,680 | 54,594

DATES: This Notice is effective March 27, 2015.

For Further Information or Questions on LLSIL: Please contact Samuel Wright, Department of Labor, Employment and Training Administration, 200 Constitution Avenue NW., Room C-4526, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

Portia Wu,
Assistant Secretary for Employment and Training.

[FR Doc. 2015-17432 Filed 7-15-15; 8:45 am]

BILLING CODE 4510-FT-P